NATIONAL TRANSPORTATION SAFETY BOARD

Sunshine Act Meeting

TIME AND DATE: 9:30 a.m., Tuesday, September 25, 2012.

PLACE: NTSB Conference Center, 429 L'Enfant Plaza SW., Washington, DC 20594.

STATUS: The ONE item is open to the public.

MATTER TO BE CONSIDERED:

8434 Marine Accident Report—Collision of Tankship Elka Apollon With Containership MSC Nederland, Houston Ship Channel, Upper Galveston Bay, Texas, October 29, 2011.

NEWS MEDIA CONTACT: Telephone: (202) 314-6100.

The press and public may enter the NTSB Conference Center one hour prior to the meeting for set up and seating.

Individuals requesting specific accommodations should contact Rochelle Hall at (202) 314-6305 by Friday, September 21, 2012.

The public may view the meeting via a live or archived webcast by accessing a link under “News & Events” on the NTSB home page at www.ntsb.gov.

Schedule updates including weather-related cancellations are also available at www.ntsb.gov.

FOR MORE INFORMATION CONTACT: Candi Bing, (202) 314-6403 or by email at bingc@ntsb.gov.

FOR MEDIA INFORMATION CONTACT: Terry Williams (202) 314-6126 or by email at williat@ntsb.gov.

Dated: September 7, 2012.
Candi R. Bing,
Federal Register Liaison Officer.

[FR Doc. 2012-22424 Filed 9-7-12; 4:15 pm]

BILLING CODE 7533-01-P